OFFICE OF PERSONNEL MANAGEMENT

5 CFR Part 532

RIN 3206-AM59

Prevailing Rate Systems; Abolishment of the Washington, DC, Special Wage Schedule for Printing Positions

AGENCY: U.S. Office of Personnel Management.

ACTION: Final rule.

SUMMARY: The U.S. Office of Personnel Management is issuing a final rule to abolish the Washington, DC, Federal Wage System (FWS) special wage schedule for printing and lithographic positions. Printing and lithographic employees in the Washington, DC, wage area will now be paid from the regular Washington, DC, appropriated fund FWS wage schedule. This change is necessary because Federal employment in printing and lithographic occupations in the Washington, DC, wage area has declined sharply in recent years, and a separate wage schedule is no longer viable or beneficial to employees.

DATES: Effective date: This regulation is effective on December 14, 2012.

FOR FURTHER INFORMATION CONTACT: Madeline Gonzalez, (202) 606-2838; email pay-leave-policy@opm.gov; or FAX: (202) 606-4264.

SUPPLEMENTARY INFORMATION: On July 13, 2012, the U.S. Office of Personnel Management (OPM) issued an interim rule (77 FR 41247) to abolish the Washington, DC, Federal Wage System (FWS) special wage schedule for printing and lithographic positions. This change is necessary because Federal employment in printing and lithographic occupations in the Washington, DC, wage area has declined sharply in recent years, and a separate wage schedule is no longer viable or beneficial to employees. Agencies will place employees who are paid from the Washington, DC, special wage schedule on the Washington, DC, regular wage schedule on the first day of the first applicable pay period beginning on or after October 21, 2012.

The Federal Prevailing Rate Advisory Committee, the national labor-management committee that advises OPM on FWS pay matters, reviewed and concurred by consensus with this change. The interim rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, under the authority of 5 U.S.C. 5343, the interim rule published on July 13, 2012 (77 FR 41427), amending 5 CFR part 532, is adopted as final without change.

[FR Doc. 2012-30132 Filed 12-13-12; 8:45 am]

BILLING CODE 6325-39-P